DEPARTMENT OF DEFENSE

Department of the Navy

Notice of Intent To Prepare an Environmental Impact Statement for the Development of the Westside of Marine Corps Base Quantico, Including the 2005 Base Realignment and Closure (BRAC) Action, Marine Corps Base Quantico (MCBQ), Virginia

AGENCY: Department of the Navy, DoD.

ACTION: Notice.

SUMMARY: Pursuant to Section 102(2)(C) of the National Environmental Policy Act (NEPA) of 1969, as implemented by the Council on Environmental Quality regulations (40 CFR parts 1500-1508), and applicable Marine Corps Order P5090.2A, guidelines for NEPA, the Marine Corps announces its intent to prepare an Environmental Impact Statement (EIS) for the development of the westside of MCBQ, including the 2005 BRAC action at MCBQ, VA. The Marine Corps previously published a Notice of Intent (NOI) to prepare a Programmatic Environmental Impact Statement (Vol. 67 FR 37405) for the development of the westside of MCBQ on May 29, 2002. This NOI cancels the previous NOI, and establishes the opportunity for the public to comment on the proposed action which now includes the BRAC 2005 actions at MCBQ.

The Marine Corps will hold a public scoping meeting open house for the purpose of further identifying the scope of issues to be addressed in the EIS. Written and recorded comments will be accepted during this time. To ensure that the full range of issues related to this proposed action will be addressed, representatives from MCBQ will be available to answer questions and solicit public comments from all interested parties during the open house. Following future publication of the draft EIS, at a time to be determined, a second public meeting will be held to address comments on the draft document.

DATES: All written comments must be received by September 8, 2006. The public scoping meeting will be held on Tuesday, August 22, 2006, at the Ramada Inn, 4316 Inn Street, Triangle, VA between 7 p.m. and 9:30 p.m.

ADDRESSES: Agencies and the public are also encouraged to provide written comments in addition to, or in lieu of, oral comments at the scoping open house. Written comments and requests for inclusion on the EIS mailing list may be submitted to: Commander, NREA Branch (B 046), Attn: J. Gardner, 3250 Catlin Avenue, Marine Corps Base, Quantico, VA 22134-0855.

FOR FURTHER INFORMATION CONTACT: Mr. Jeff Gardner, 703-432-6770. Please submit requests for special assistance, sign language interpretation for the hearing impaired, or other auxiliary aids at the public meeting to Mr. Gardner by August 14, 2006.

SUPPLEMENTARY INFORMATION: MCBQ is a 60,000-acre combat education and training base located approximately 30 miles south of Washington DC. The 2005 BRAC law has directed the relocation and collocation of Military Department Investigation Agencies and the Department of Defense Counterintelligence and Security Agency to MCBQ. This is expected to add approximately 3,000 personnel at MCBQ by 2011. Other Federal and Marine Corps initiatives are expected to continue to identify MCBQ as a possible site for relocation. As part of a long-range planning effort to accommodate these anticipated requirements, the Quantico Land Use Plan, I-95 West, was developed for the Marine Corps which evaluated potential areas within the installation that are the most suitable/practical for locating new development, including the BRAC 2005 actions, without impacting its primary mission of military education and training. The age and deteriorating condition of many facilities on the Mainside of MCBQ dictate a need for their replacement. Space available for new development or redevelopment is limited due to many factors including acreage, current land use, topography, and environmental constraints. To eliminate existing incompatible land uses and better utilize land within the installation, MCBQ has identified two parcels within the westside of MCBQ (hereon referred to as the Westside Development Area) for potential future development. These areas were determined to have suitable acreage for the proposed development, reduced construction costs, and are not overly constrained by environmental or operational factors. These locations are: the Russell Road parcel and MCB-1 parcel. The proposed action for this EIS is to use the Westside Development Area of MCBQ for relocation of existing and future potential base functions and to accommodate the BRAC 2005 actions. The components of the proposed action include construction and operation of new facilities with a mix of uses to include administrative, warehouse, maintenance, and industrial facilities and the necessary infrastructure, road improvements, and security measures to support the proposed action.

A range of alternatives was developed to assess the proposed action based on the Quantico Land Use Plan, I-95 West (MCBQ, 2006). This study identified potential development scenarios based on present and future mission needs and land use analysis. Alternatives to implement the proposed action include four intensities of development and two proposed alternative locations for implementing the BRAC action. For each development intensity alternative, sub-alternatives analyzing development at either Location A or Location B will be addressed. First alternative, high-intensity development would add up to 10,000 personnel, including 3,000 under BRAC. The construction would include facilities designed primarily for administrative and operational functions, including warehousing, maintenance, and support facilities. Parking and road improvements would be included. Second alternative, medium-intensity development would add up to 7,000 personnel, including 3,000 under BRAC. The construction under this alternative would remain mixed use with a lower intensity of administrative facilities and include parking and road improvements. Third alternative, low-intensity development would add 5,000 personnel, including 3,000 under BRAC. The majority of the construction under this alternative would include warehousing and maintenance facilities and to a lesser extent administrative and operational facilities. Road improvements would be limited to those necessary to accommodate the BRAC action. Additionally, a fourth alternative, the BRAC Action alternative, would add only the development required to accommodate those personnel (3,000) associated with the BRAC 2005 action. The construction footprint would include 70 to 100 acres of land, construction of approximately 735,000 square feet of new construction, and improvement of existing roads. The No Action Alternative will also be evaluated as required by NEPA. The EIS will address the following environmental areas: topography, geology, and soils; water and biological resources; air quality; noise; infrastructure and utilities; traffic; cultural resources; land use; socioeconomics; and hazardous waste and materials.

Dated: July 27, 2006.
M.A. Harvison,
Lieutenant Commander, Judge Advocate General's Corps, U.S. Navy, Federal Register Liaison Officer.

[FR Doc. E6-12532 Filed 8-2-06; 8:45 am]

BILLING CODE 3810-FF-P